DEPARTMENT OF THE INTERIOR

National Park Service

[NPS-WASO-BSD-COMM-19682; PPWOBSADC0, PPMVSCS1Y.Y00000 (166)]

Proposed Information Collection; National Park Service Concessions

AGENCY: National Park Service, Interior.

ACTION: Notice; request for comments.

SUMMARY: We (National Park Service, NPS) will ask the Office of Management and Budget (OMB) to approve the information collection (IC) described below. As required by the Paperwork Reduction Act of 1995 and as part of our continuing efforts to reduce paperwork and respondent burden, we invite the general public and other Federal agencies to take this opportunity to comment on this IC. This IC is scheduled to expire on November 30, 2016. We may not conduct or sponsor and a person is not required to respond to a collection of information unless it displays a currently valid OMB control number.

DATES: To ensure that we are able to consider your comments on this IC, we must receive them by January 11, 2016.

ADDRESSES: Send your comments on the IC to Madonna L. Baucum, Information Collection Clearance Officer, National Park Service, 12201 Sunrise Valley Drive, Room 2C114, Mail Stop 242, Reston, VA 20192 (mail); or madonna_baucum@nps.gov (email). Please include “1024-0029” in the subject line of your comments. You can view the currently approved collection at www.reginfo.gov.

FOR FURTHER INFORMATION CONTACT: To request additional information about this IC, contact Brian P. Borda, Chief, Commercial Services Program, National Park Service, 1201 I Street NW., Washington, DC 20005 (mail), (202) 513-7156 (phone), or brian_borda@nps.gov (email).

SUPPLEMENTARY INFORMATION:

I. Abstract

Private businesses under contract to the National Park Service manage food, lodging, tours, whitewater rafting, boating, and many other recreational activities and amenities in more than 100 national parks. These services gross more than $1 billion every year and provide jobs for more than 25,000 people during peak season.

The regulations at 36 CFR part 51 primarily implement title IV of the National Parks Omnibus Management Act of 1998 (Pub. L. 105-391), which provides legislative authority, policies, and requirements for the solicitation, award, and administration of NPS concession contracts. Following are the information collection requirements associated with soliciting, awarding, and administering NPS concessions. We collect the following information in narrative and form format:

Proposals

The public solicitation process begins with the issuance of a prospectus to invite the general public to submit proposals for the contract. The prospectus describes the terms and conditions of the concession contract to be awarded, the procedures to be followed in the selection of the best proposal, and the information that must be provided. Information that we collect includes, but is not limited to:

• Description of how respondent will conduct operations to minimize disturbance to wildlife; protect park resources; and provide visitors with a high quality, safe, and enjoyable visitor experience.

• Organizational structure and history and experience with similar operations.

• Details on violations or infractions and how they were handled.

• Financial information and demonstration that the respondent has a credible, proven track record of meeting obligations.

Amendments

Amendments to proposals may be submitted in accordance with 36 CFR 51.15 and 51.32.

Appeals

Regulations at 36 CFR 51.47 state that any person may appeal a determination that a concessioner is not a preferred offeror for the purposes of a right of preference in renewal. The appeal must specify the grounds for the appeal.

Request To Construct a Capital Improvement

In accordance with 36 CFR 51.54, a request for approval to construct a capital improvement must include appropriate plans and specifications for the capital improvement. The request must also include an estimate of the total construction cost of the capital improvement.

Construction Report

In accordance with 36 CFR 51.55, a concessioner obtaining a leasehold surrender interest must submit a construction report to the NPS. The construction report must be supported by actual invoices of the capital improvement's construction cost together with, if requested by the NPS, a written certification from a certified public accountant (CPA).

Application To Sell or Transfer Concession Operation

36 CFR part 51, subpart J, provides that a concessioner must obtain NPS approval to assign, sell, convey, grant, contract for, or otherwise transfer: Any concession contract; any rights to operate under or manage the performance of a concession contract as a subconcessioner or otherwise; any controlling interest in a concessioner or concession contract; or any leasehold surrender interest or possessory interest obtained under a concession contract. The amount and type of information to be submitted varies with the type and complexity of the proposed transaction. Information includes, but is not limited to:

• Instruments proposed to implement the transaction.

• Opinion of counsel that the proposed transaction is lawful under all applicable Federal and State laws.

• Narrative description of the proposed transaction.

• Statement as to the existence and nature of any litigation relating to the proposed transaction.

• Description of the management qualifications, financial background, and financing and operational plans of any proposed transferee.

• Description of all financial aspects of the proposed transaction.

• Prospective financial statements (proformas).

• Schedule that allocates in detail the purchase price (or, in the case of a transaction other than an asset purchase, the valuation) of all assets assigned or encumbered. In addition, the applicant must provide a description of the basis for all allocations and ownership of all assets.

Annual Financial Statements

We currently use NPS Forms 10-356 and 10-356A to collect annual financial reports. These forms are an accumulation of various financial statements commonly used by industry for reporting in conformance with generally accepted accounting principles. The information provides a comprehensive view of the concessioner's financial situation at the end of the fiscal year and the concessioner's activity over the preceding year. We are proposing revisions to the currently approved NPS Form 10-356 and NPS Form 10-356A. You can view the currently approved forms at www.reginfo.gov. We have made minor formatting adjustments to all schedules. The other changes are necessary to improve the clarity of the forms and lessen the total time to complete the forms. There are many different contractual provisions in concession contracts and the changes may affect some concessioners more than others. In addition, we will simplify the submission process, which will significantly reduce the time required to complete and submit an Annual Financial Report.

Revisions to NPS Form 10-356

• Modifying Schedules D-PI and D-LSI and adding Schedule D-1. These changes are necessary to accommodate accounting rule changes in the Financial Accounting Standards Board Accounting Standards Codification (ASC) Topic 853. Some concession contracts have provisions for possessory interest and leasehold surrender interest, and ASC Topic 853 changes the accounting treatment of these assets.

• Deleting Schedules N and O due to the small number of concessioners that must complete them. These schedules will be included in a proposed new form, NPS Form 10-356B (see below).

• Deleting Schedule L so that all notes and supplemental text will be captured on Schedule F.

• Replacing high-season and low-season collection fields on Schedule M with annual collection fields.

• Adding “other” data fields on many schedules.

Revisions to NPS Form 10-356A

• Revising indirect operating expenses collection fields on Schedule B to match the indirect operating expenses collection fields on NPS Form 10-356 Schedule I.

• Replacing high-season and low-season collection fields on Schedule M with annual collection fields.

• Adding “other” data fields on many schedules.

NPS Form 10-356B

We are proposing a new NPS Form 10-356B, which will include:

• Supplemental Schedules N and O (currently on NPS Form 10-356)

• Supplemental Schedule R. This new schedule is necessary to accurately track utility add-ons for the small number of concessioners that have an approved rate add-on in their contract. Concessioners choose how to account for the approved rate add-on in their annual financial report on NPS Forms 10-356 or 10-356A according to best industry accounting practices. However, the currently approved forms do not include any schedules or collection areas that show the amount of revenue collected in excess of approved rates or the cost of utilities provided by the National Park Service to the concessioner. This information is necessary to ensure that visitors are only charged the approved rate add-on amount and to ensure that we have a comprehensive view of the concessioner's financial situation as it relates to the regulations at 36 CFR part 51.

Recordkeeping

In accordance with 36 CFR 51.98, a concessioner (and any subconcessioner) must keep and make available to NPS, records for the term of the concession contract and for 5 years after the termination or expiration of the concession contract.

II. Data

OMB Control Number: 1024-0029.

Title: National Park Service Concessions, 36 CFR 51.

Service Form Numbers: 10-356, 10-356A, 10-356B.

Type of Request: Revision of a currently approved collection.

Description of Respondents: Individuals, businesses, and nonprofit organizations.

Respondent's Obligation: Required to obtain or retain a benefit.

Estimated Number of Respondents: 500.

Frequency of Collection: On occasion for proposals, amendments, and appeals; annually for financial reports; and ongoing for recordkeeping.

Estimated Nonhour Cost Burden: $425,000.

Activity | Number of annual responses | Completion time per response (hours) | Total annual burden hours *
Proposals—large concessions | 30 | 240 | 7,200
Proposals—small concessions | 60 | 80 | 4,800
Amendments | 1 | 1 | 1
Appeals | 1 | .5 | 1
Request To Construct a Capital Improvement—large projects | 31 | 16 | 496
Request To Construct a Capital Improvement—small projects | 89 | 8 | 712
Construction Report—large projects | 31 | 56 | 1,736
Construction Report—small projects | 89 | 24 | 2,136
Application to Sell/Transfer Concession Operation | 20 | 80 | 1,600
Annual Financial Report—NPS Form 10-356 | 150 | 15 | 2,250
Annual Financial Report—NPS Form 10-356A | 350 | 4 | 1,400
Annual Financial Report—NPS Form 10-356B | 30 | 2 | 60
Recordkeeping—large concessions | 150 | 800 | 120,000
Recordkeeping—small concessions | 350 | 50 | 17,500
Totals | 1,382 |  | 159,892
* rounded

III. Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that we will be able to do so.

Dated: November 4, 2015.
Madonna L. Baucum,
Information Collection Clearance Officer, National Park Service.

[FR Doc. 2015-28546 Filed 11-9-15; 8:45 am]

BILLING CODE 4310-7EH-P